DEPARTMENT OF THE INTERIOR

Bureau of Land Management

[NM-930-00-1040-DE]

Notice of Extension of Public Comment Period

AGENCY: Bureau of Land Management, Interior.

ACTION: Notice of Extension of Public Comment Period for Thirty (30) Days.

SUMMARY: The Bureau of Land Management (BLM) announces the extension of the public comment on four Draft Riparian and Aquatic Habitat Management Plan Environment Impact Statements (DEISs) and Possible Resource Management Plan Amendments (RMPAs). The four documents are for the Taos Field Office, the Farmington Field Office, the Albuquerque Field Office and the Las Cruces Field Office.

The 30 day extension of the public comment period was granted for the four documents after BLM review of the reasons for the request for extensions on two of them. The thirty day extension starts immediately after the end of the ninety day (90) public comment period. The ninety (90) day public comment period ended January 12, 2000. The Thirty (30) extension of the public comment period starts January 13, 2000 and ends February 11, 2000.

ADDRESSES: Written comments on the Draft documents should be sent as follows:

Comment on the Draft Taos Field Office Riparian and Aquatic Habitat Management Plan and Possible RMP Amendment should be sent to: Taos Field Office, Taos HMP/EIS/RMPA Team Leader, 226 Cruz Alta Road, Taos, NM 87571-5983.

Comment on the Draft Farmington Field Office Riparian and Aquatic Habitat Management Plan and Possible RMP Amendment should be sent to: Farmington Field Office, Farmington HMP/EIS/RMPA Team Leader, 1235 La Plata Highway, Farmington, NM 87401-1808.

Comment on the Draft Albuquerque Field Office Riparian and Aquatic Habitat Management Plan and Possible RMP Amendment should be sent to: Albuquerque Field Office, Rio Puerco HMP/EIS/RMPA Team Leader, 435 Montano Road, NE, Albuquerque, NM 87107-4935.

Comment on the Draft Las Cruces Field Office Riparian and Aquatic Habitat Management Plan and Possible RMP Amendment should be sent to: Las Cruces Office, Mimbres HMP/EIS/RMPA Team Leader, 1800 Marquess Street, Las Cruces, NM 88005-3371.

Comments, including names and street addresses of respondents, will be available for public review at the above address during regular business hours (8:00 am to 4:30 pm) Monday through Friday, except holidays, and may be published as part of the EIS and possible RMPA. Individual respondents may request confidentiality. If you wish to withhold your name or street address from public review or from disclosure under the Freedom of Information Act, you must state this prominently at the beginning of your written comments. Such requests will be honored to the extent allowed by law. All submissions from organizations or businesses, and from individuals identifying themselves as representatives or officials of organizations or businesses, will be made available for public inspection in their entirety.

FOR FURTHER INFORMATION CONTACT: (1) Taos Field Office, Ram Herrera, 505-751-4705.

(2) Farmington Field Office, Bob Moore, 505-599-6311.

(3) Albuquerque Field Office, Jim Silva, 505-761-8901.

(4) Las Curces Field Office, Bill Merhege, 505-525-4369.

SUPPLEMENTARY INFORMATION: The two Draft Riparian and Aquatic Habitat Management Plan and Environmental Impact Statements and Possible RMP Amendments are being prepared to provide comprehensive riparian and aquatic management guidance for restoring and protecting riparian habitat under BLM jurisdiction.

Dated: January 14, 2000.
M.J. Chávez,
State Director.

[FR Doc. 00-1503 Filed 1-20-00; 8:45am]

BILLING CODE 4310-FB-M